DEPARTMENT OF AGRICULTURE

Commodity Credit Corporation

Domestic Sugar Program—FY 2026 Reassignment of Cane Sugar and Beet Sugar Marketing Allotments and Processor Allocations

AGENCY: Commodity Credit Corporation, U.S. Department of Agriculture.

ACTION: Notice.

SUMMARY: The United States Department of Agriculture (USDA) is issuing this notice to: (1) revise fiscal year (FY) 2026 (crop year 2025) State cane sugar allotments and allocations to sugarcane processors; and (2) revise the FY 2026 (crop year 2025) beet sugar allocations. Actions (1) and (2) apply to all domestic cane and beet sugar marketed for human consumption in the United States from October 1, 2025, through September 30, 2026.

FOR FURTHER INFORMATION CONTACT: Carlann Unger; telephone: (773) 573-5163; or email, Carlann.Unger@usda.gov. Individuals with disabilities who require alternative means for communication should contact the USDA Target Center at (202) 720-2600 (voice and text telephone (TTY mode)) or dial 711 for Telecommunications Relay service (both voice and text telephone users can initiate this call from any telephone).

SUPPLEMENTARY INFORMATION:

FY 2026 Cane Reassignment

In accordance with section 359e of the Agricultural Adjustment Act of 1938 (7 U.S.C. 1359ee), after evaluating each sugarcane State and sugarcane processor's ability to market its full allotment and allocation, USDA is transferring 315,464 short tons, raw value of Florida FY 2026 allotment to Louisiana, which results in the transfer of allocations from Florida sugarcane processors with surplus allocation to Louisiana sugarcane processors with deficit allocation, as shown in the table below.

FY 2026 Beet Reassignment

In addition, after evaluating each beet sugar processor's ability to market its full allocation, USDA is transferring allocations from beet sugar processors with surplus allocation to beet sugar processors with deficit allocation, also shown in the table below.

Table 1—FY 2026 Revised Beet and Cane Allotments and Allocations
[Short tons, raw value]
Distribution | Initial FY26 allotments & allocations | Reassignments | Revised allotments & allocations
Beet Sugar | 5,525,221 | 0 | 5,525,221
Cane Sugar | 4,640,779 | 0 | 4,640,779
Imports |  | 0 | 0
Total OAQ | 10,166,000 | 0 | 10,166,000
Beet Processors' Marketing Allocations
Amalgamated Sugar Co | 1,182,992 | 70,374 | 1,253,366
American Crystal Sugar Co | 2,031,883 | 30,412 | 2,062,295
Michigan Sugar Co | 570,620 | 49,008 | 619,628
Minn-Dak Farmers Co-op | 383,721 | −18,201 | 365,520
So. Minn Beet Sugar Co-op | 745,729 | −204,443 | 541,286
Western Sugar Co | 564,013 | 58,593 | 622,606
Wyoming Sugar Company, LLC | 46,264 | 14,256 | 60,519
Total Beet Sugar | 5,525,221 | 0 | 5,525,221
State Cane Sugar Allotments
Florida | 2,616,569 | −315,464 | 2,301,104
Louisiana | 2,024,210 | 315,464 | 2,339,675
Texas |  | 0 | 0
Total Cane Sugar | 4,640,779 | 0 | 4,640,779
Cane Processors' Marketing Allocations
Florida:
Florida Crystals | 1,077,310 | −213,789 | 863,521
Growers Co-op. of FL | 470,682 | −30,795 | 439,888
U.S. Sugar Corp | 1,068,577 | −70,880 | 997,696
Total Florida | 2,616,569 | −315,464 | 2,301,104
Louisiana:
Sugar Growers and Refiners | 1,405,272 | 215,900 | 1,621,172
M.A. Patout & Sons | 618,938 | 99,565 | 718,502
Total Louisiana | 2,024,210 | 315,464 | 2,339,675
Texas:
Rio Grande Valley | 0 | 0 | 0
* Values may not sum to column total due to rounding.

USDA will closely monitor stocks, consumption, imports and all sugar market and program variables on an ongoing basis and may make program adjustments during FY 2026 if needed.

William Beam,
Executive Vice President, Commodity Credit Corporation.

[FR Doc. 2026-02723 Filed 2-10-26; 8:45 am]

BILLING CODE 3411-E2-P